TENNESSEE VALLEY AUTHORITY

Agency Information Collection Activities: Proposed Collection; Comment Request; Correction

AGENCY: Tennessee Valley Authority.

ACTION: Notice; correction.

SUMMARY: The Tennessee Valley Authority published a document in the Federal Register of May 26, 2016, concerning a proposed information collection that will be submitted to the Office of Management and Budget (OMB) for review, as required by the Paperwork Reduction Act of 1995 (44 U.S.C. chapter 35, as amended). The Tennessee Valley Authority is soliciting public comments on this proposed collection as provided by 5 CFR 1320.8(d)(1). This correction adds additional contact information.

FOR FURTHER INFORMATION CONTACT: Christopher A. Marsalis, (865) 632-2467 or by email at camarsalis@tva.gov.

Correction

In the Federal Register of May 26, 2016, in FR Doc. 2016-12401, on page 33577, in the first column, correct the “Addresses” caption to read:

ADDRESSES: Requests for information, including copies of the information collection proposed and supporting documentation, should be directed to the Senior Privacy Program Manager: Christopher A. Marsalis, Tennessee Valley Authority, 400 W. Summit Hill Dr. (WT 5D), Knoxville, Tennessee 37902-1401; telephone (865) 632-2467 or by email at camarsalis@tva.gov; or to Joy L. Lloyd, Tennessee Valley Authority, 400 W. Summit Hill Dr. (WT 5A), Knoxville, Tennessee 37902-1401; telephone (865) 632-8370 or by email at jllloyd@tva.gov; or to the Agency Clearance Officer: Philip D. Propes, Tennessee Valley Authority, 1101 Market Street (MP 2C), Chattanooga, Tennessee 37402-2801; telephone (423) 751-8593 or email at pdpropes@tva.gov.

Dated: May 26, 2016.
Philip D. Propes,
Director, Enterprise Information Security and Policy.

[FR Doc. 2016-13214 Filed 6-3-16; 8:45 am]

BILLING CODE 8120-08-P